DEPARTMENT OF HEALTH AND HUMAN SERVICES

Administration for Children and Families

State Grants for Election Assistance for Individuals With Disabilities (EAID)

AGENCY: Administration on Developmental Disabilities (ADD), Administration for Children and Families, Department of Health and Human Services.

ACTION: Notification of the availability of Fiscal Year 2004 funds under the Help America Vote Act, Public Law (Pub. L.) 107-252, title II subtitle D, part 2, section 261, Payments to States and Units of Local Governments to Assure Access for Individuals with Disabilities (42 U.S.C. 15421).

SUMMARY: This notice (1) sets forth the requirements that must be met by a State seeking a payment under 42 U.S.C. 15421 of the Help America Vote Act of 2002 (HAVA); and (2) secures assurances from such a State related to conditions prior to receiving a payment.

EFFECTIVE DATE: April 19, 2004.

FOR FURTHER INFORMATION CONTACT: Contact Margaret Schaefer at (202) 690-5962, mschaefer@acf.hhs.gov.

Part I: Introduction

The Help America Vote Act (HAVA), signed into law by President George W. Bush on October 29, 2002, contains several provisions that will enable an applicant to establish, expand, and improve access to and participation by individuals with the full range of disabilities (e.g., visual impairments including blindness, hearing impairments including deafness, the full range of mobility impairments including gross and fine motor impairments, emotional impairments, and intellectual impairments) in the election process. The Catalog of Federal Domestic Assistance Number for this announcement is: 93.617.

Background

HAVA assigned responsibility for the EAID to the Secretary of Health and

Human Services (the Secretary), who has assigned responsibility for carrying out this program to the Administration for Children and Families (ACF). Within ACF, the Administration on Developmental Disabilities (ADD) is responsible for the administration of the EAID grant program.

Eligible Applicants

As defined by section 901 of HAVA, States (including the District of Columbia, the Commonwealth of Puerto Rico, Guam, American Samoa, and the Virgin Islands) are eligible to apply for grants under the EAID program. Grants are not available to local units of government directly from the Federal government in FY 2004 because the Consolidated Appropriations Act, Pub. L. 108-199, appropriated funds only for grants to States for FY 2004.

Availability and Distribution of Funds

On January 23, 2004, in Pub. L. 108-199, Congress appropriated $10,000,000 for payments to States for Federal fiscal year 2004, of which $9,941,000 is available. Payment amounts to States and Territories will be based on the relative size of the voting age population (i.e., number of individuals 18 years of age or older as reported in the 2000 U.S. Census) of those States and Territories requesting payment, with the exception that no State or Territory applying for funds shall receive a payment of less than $100,000. See Table I for the amount reserved for each State and Territory, assuming all 55 States and Territories submit applications. If fewer than 55 States and Territories submit applications, those States and Territories applying for payment will receive a proportionately higher amount than that listed on Table I. Any payment distributed shall remain available until expended. In order to receive a payment, a State must meet all of the requirements in part II of this notice. State governments receiving funds under this announcement will need to collaborate with local chief election officials and local units of government (including Indian tribes which are involved in conducting elections for Federal offices) in determining where and how to spend funds. The Federal government reserves the right to audit expenditure of funds received under this announcement pursuant to section 902 of the Help America Vote Act, 42 U.S.C. 15542 and 45 CFR 92.26, where applicable.

Use of Allotments

Section 261 of HAVA provides that funds be made available to:

a. Make polling places, including the path of travel, entrances, exits, and voting areas of each polling facility, accessible to individuals with the full range of disabilities (e.g., visual impairments including blindness, hearing impairments including deafness, the full rage of mobility impairments including gross and fine motor impairments, emotional impairments, and intellectual impairments).

b. Provide the same opportunity for access and participation (including privacy and independence) to individuals with the full range of disabilities.

c. Provide training for election officials, poll workers, and election volunteers on how best to promote the access and participation of individuals with the full range of disabilities in elections for Federal office.

d. Provide individuals with the full range of disabilities with information about the accessibility of polling places.

Part II: Application Requirements

All of the following conditions must be met by an applicant seeking a payment under 42 U.S.C. 15421 of the Help America Vote Act of 2002. An applicant must agree to these conditions in writing prior to receiving a payment by submitting an application. The conditions are to ensure that a payment will be used in compliance with HAVA. Payments must be used to pay for the activities described under part I, Use of Allotments.

Conditions

1. Except as noted, the grant must be used for each of the following activities:

a. Unless a state submits an assurance that all polling place are accessible, making polling places, including the path of travel, entrances, exits, and voting areas of each polling facility, accessible to individuals with disabilities.

b. Providing the same opportunity for access and participation (including privacy and independence) to individuals with disabilities as for other voters.

c. Training election officials, poll workers, and election volunteers on how best to promote the access and participation of individuals with disabilities in elections for Federal office.

d. Providing individuals with disabilities with information about the accessibility of polling places.

2. In an application, an applicant must provide:

a. The name of the State submitting the application.

b. The name of the Chief Election Official of the State submitting the application.

c. Contact person: Name, title, address, phone, fax, and e-mail address.

d. A description of what the applicant intends to do in each of the four categories of activities outlined under 1 above. [Note the exception in #1 above related to assuring that all polling places are accessible.]

e. How much of the payment that the applicant intends to spend on each of the four categories of activities outlined in 1 above. [Note the exception in #1 above related to assuring that all polling places are accessible.]

f. An assurance that six months after the ending of the fiscal year in which a payment is received, the Chief Election Official or his/her designee will submit a report to the Administration on Developmental Disabilities for the Secretary of Health and Human Services describing how the payment received was used with regard to the four categories of activities. [Note the exception in #1 above related to assuring that all polling places are accessible.]

3. The application must include a completed SF 424, available at this Web address: http://www.acf.hhs.gov/programs/add/announce.htm.

4. The application must include the following certifications:

a. Anti-Lobbying Certification and Disclosure Form (45 CFR part 93).

b. Other Certifications: The signature on the application by the authorized official attests to the intent to comply with the following other certifications:

A. Certification Regarding Drug-Free Work Place (45 CFR part 76)

B. Debarment Certification (45 CFR part 76); and

C. Certification Regarding Environmental Tobacco Smoke.

5. The application must be signed by the Chief Election Official.

6. The closing time and date for receipt of applications is 4:30 p.m. eastern standard time (e.s.t.) 30 days from date of publication in the Federal Register. Mailed or hand carried applications received after 4:30 p.m. on the closing date will be classified as late. Any applications received after 4:30 p.m. on the deadline date will not be considered for payment.

Deadline: Mailed applications shall be considered as meeting an announced deadline if they are received on or before the deadline time and date at the U.S. Department of Health and Human Services, Administration for Children and Families, Administration on Developmental Disabilities, 370 L'Enfant Promenade, SW., Mail Stop HHH 405-D, Washington, DC 20447, Attention: Margaret Schaefer. Hand-delivered applications should be delivered to Margaret Schaefer at this same address.

Part III: Additional Information

Closing Date for Receipt of Assurances

The closing date for receipt of all applications is 30 days from date of publication in the Federal Register.

Grant Administration Regulations

The regulations that govern the administration of these grants are: 45 CFR part 16—Procedures of the Departmental Grant Appeals Board; 45 CFR part 30—Claims Collection; 45 CFR part 76—Government wide Debarment and Suspension (Nonprocurement) and Government wide Requirements for Drug-Free Workplace (Grants); 45 CFR part 80—Nondiscrimination Under Programs Receiving Federal Assistance Through the Department of Health and Human Services Effectuation of Title VI of the Civil Rights Act of 1964; 45 CFR part 81—Practice and Procedure for Hearings Under Part 80 of This Title; 45 CFR part 84—Nondiscrimination on the Basis of Handicap in Programs and Activities Receiving Federal Financial Assistance; 45 CFR part 91— Nondiscrimination on the Basis of Age in HHS Programs or Activities Receiving Federal Financial Assistance; 45 CFR part 92-Uniform Administrative Requirements for Grants and Cooperative Agreements to State and Local Governments; and 45 CFR part 93—New Restrictions on Lobbying.

Reporting Requirements

Each grantee is required to submit annually a narrative report that describes how the funds are used in regard to the four categories of activities authorized under 42 U.S.C. 15461 of the Help America Vote Act of 2002. [Note the exception for the first category related to assuring that all polling places are accessible.] These reports are due no later than March 31 of each year.

Reports must be mailed to: U.S. Department of Health and Human Services, Administration for Children and Families, Administration on Developmental Disabilities, 370 L'Enfant Promenade, SW., Mail Stop HHH 405-D, Washington, DC 20447, Attention: Margaret Schaefer.

Expenditures under the EAID program are to be reported using a Financial Status Report (SF-269A). Grantees are required to submit annual financial reports (SF-269A) at the end of each 12 month grant period (October 1—September 30) until all funds have been expended. Funds under EAID are available until expended. Final reports are due 90 days after the end of the grant period.

Submit the original SF-269A to ACF at the address below: Administration for Children and Families, Office of Administration, Division of Mandatory Grants, Attn: Joseph Lonergan, 370 L'Enfant Promenade, SW., Washington, DC 20447.

Notification Under Executive Order 12372

This program is covered under E.O. 12372, “Intergovernmental Review of Federal Programs” and 45 CFR part 100, “Intergovernmental Review of Department of Health and Human Services Programs and Activities.” However, since units of local governments are not funded in Fiscal Year 2003, the review and comment provisions of the Executive Order and part 100 do not apply for fiscal year 2004.

Paperwork Reduction Act

In accordance with the Paperwork Reduction Act of 1980 (Pub. L. 96-511), the application requirements contained in this notice have been approved by the Office of Management and Budget under control number 0348-0043.

Table I.—FY 2004 Allocations for Election Assistance for Individuals With Disabilities—FY 2004 State Allotments
[Voting access for individuals with disabilities—States]
State/Territory | FY 2004 enacted
Alabama | 129,831
Alaska | 100,000
Arizona | 152,889
Arkansas | 100,000
California | 985,955
Colorado | 128,910
Connecticut | 100,000
Delaware | 100,000
District of Columbia | 100,000
Florida | 492,941
Georgia | 241,722
Hawaii | 100,000
Idaho | 100,000
Illinois | 359,062
Indiana | 175,350
Iowa | 100,000
Kansas | 100,000
Kentucky | 121,452
Louisiana | 126,664
Maine | 100,000
Maryland | 156,678
Massachusetts | 190,726
Michigan | 287,376
Minnesota | 144,745
Mississippi | 100,000
Missouri | 164,243
Montana | 100,000
Nebraska | 100,000
Nevada | 100,000
New Hampshire | 100,000
New Jersey | 248,294
New Mexico | 100,000
New York | 558,767
North Carolina | 240,165
North Dakota | 100,000
Ohio | 328,144
Oklahoma | 100,662
Oregon | 102,439
Pennsylvania | 363,885
Rhode Island | 100,000
South Carolina | 120,173
South Dakota | 100,000
Tennessee | 168,757
Texas | 602,306
Utah | 100,000
Vermont | 100,000
Virginia | 211,844
Washington | 175,020
West Virginia | 100,000
Wisconsin | 157,636
Wyoming | 100,000
Subtotal | 9,536,636
American Samoa | 100,000
Guam | 100,000
Puerto Rico | 104,364
Virgin Islands | 100,000
Subtotal | 404,364
Total resources | 9,941,000

Patricia A. Morrissey,
Commissioner, Administration on Developmental Disabiltiies.

[FR Doc. 04-8789 Filed 4-16-04; 8:45 am]

BILLING CODE 4184-01-P